NUCLEAR REGULATORY COMMISSION

[Docket Nos. 50-352 and 50-353; NRC-2011-0166]

Exelon Generation Company, LLC; Limerick Generating Station, Units 1 and 2

AGENCY: Nuclear Regulatory Commission.

ACTION: License renewal and record of decision; issuance.

SUMMARY: The U.S. Nuclear Regulatory Commission (NRC) has issued renewed facility operating license Nos. NPF-39 and NPF-85 to Exelon Generation Company, LLC (the licensee), the operator of the Limerick Generating Station, Units 1 and 2 (Limerick). Renewed facility operating license Nos. NPF-39 and NPF-85 authorize operation of Limerick by the licensee at reactor core power levels not in excess of 3515 megawatts thermal for each unit, in accordance with the provisions of the Limerick renewed licenses and technical specifications. In addition, the NRC has prepared a record of decision (ROD) that supports the NRC's decision to renew facility operating license Nos. NPF-39 and NPF-85.

DATES: The license renewal referenced in this document is effective on October 20, 2014.

ADDRESSES: Please refer to Docket ID NRC-2011-0166 when contacting the NRC about the availability of information regarding this document. You may obtain publicly-available information related to this document using any of the following methods:

• Federal Rulemaking Web site: Go to http://www.regulations.gov and search for Docket ID NRC-2011-0166. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Richard Plasse, Office of Nuclear Reactor Regulation, telephone: 301-415-1427; email: Richard.Plasse@nrc.gov, U.S. Nuclear Regulatory Commission, Washington, DC 20555.

SUPPLEMENTARY INFORMATION: Notice is hereby given that the NRC has issued renewed facility operating license Nos. NPF-39 and NPF-85 to Exelon Generation Company, LLC, the operator of Limerick. Renewed facility operating license Nos. NPF-39 and NPF-85 authorize operation of Limerick by the licensee at reactor core power levels not in excess of 3515 megawatts thermal for each unit, in accordance with the provisions of the Limerick renewed licenses and technical specifications. The NRC's ROD that supports the NRC's decision to renew facility operating license Nos. NPF-39 and NPF-85 is available in ADAMS under Accession No. ML14281A259. As discussed in the ROD and the final supplemental environmental impact statement (FSEIS) for LGS, Supplement 49 to NUREG-1437, “Generic Environmental Impact Statement for License Renewal of Nuclear Plants Regarding Limerick Generating Station, Units 1 and 2,” dated August 2014 (ADAMS Accession Nos. ML14238A284 and ML14238A290), the NRC has considered a range of reasonable alternatives that included natural gas combined-cycle, supercritical pulverized coal, new nuclear, wind power, purchase power, and the no action alternative. The ROD and FSEIS documents the NRC decision for the environmental review that the adverse environmental impacts of license renewal for Limerick are not so great that preserving the option of license renewal for energy planning decisionmakers would be unreasonable.

Limerick Units 1 and 2 are boiling water reactors located in Limerick Township, Pennsylvania. The application for the renewed licenses, “Limerick Generating Station License Renewal Application,” dated June 22, 2011 (ADAMS Accession No. ML111790800), complied with the standards and requirements of the Atomic Energy Act of 1954, as amended (the Act), and the NRC's regulations. As required by the Act and the NRC's regulations in 10 CFR Chapter 1, the NRC has made appropriate findings, which are set forth in the licenses. A public notice of the proposed issuance of the renewed licenses and an opportunity for a hearing was published in the Federal Register on August 24, 2011 (76 FR 52992).

For further details with respect to this action, see: (1) Exelon Generation Company, LLC, license renewal application for Limerick Generating Station, Units 1 and 2 dated June 22, 2011, as supplemented by letters dated through June 4, 2014; (2) the NRC's safety evaluation report published in January 2013, and supplemented in August 2014, (ADAMS Accession Nos. ML12354A349 and ML14190B070); (3) the licensee's Final Safety Analysis Report; (4) the NRC's final environmental impact statement (NUREG-1437, Supplement 49), for the LGS, Units 1 and 2, published in August 2014; and (5) the NRC's ROD.

Dated at Rockville, Maryland, this 20th day of October, 2014.
For the Nuclear Regulatory Commission.
Christopher G. Miller,
Director, Division of License Renewal, Office of Nuclear Reactor Regulation.

[FR Doc. 2014-25365 Filed 10-23-14; 8:45 am]

BILLING CODE 7590-01-P